DEPARTMENT OF TRANSPORTATION

[Docket No. PHMSA-2019-0172]

Pipeline Safety; Information Collection Activities

AGENCY: Pipeline and Hazardous Materials Safety Administration (PHMSA), Department of Transportation (DOT).

ACTION: Notice and request for comments.

SUMMARY: In compliance with the Paperwork Reduction Act of 1995, this notice announces that the information collection requests (ICR) summarized below are being forwarded to the Office of Management and Budget (OMB) for review and comments. A Federal Register notice soliciting comments on the following information collections with a 60-day comment period was published on December 17, 2020.

DATES: Comments must be submitted on or before June 14, 2021.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Only the redacted copy will be placed in the public docket. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202/680-2034 or by email at Angela.Hill@dot.gov.

SUPPLEMENTARY INFORMATION:

I. Background

Under procedures established by the Paperwork Reduction Act of 1995,¹ before seeking OMB approval, Federal agencies must solicit public comment on proposed collections of information. On December 17, 2020, PHMSA published a notice in the Federal Register soliciting comments on several proposed revisions to Form PHMSA F7100.2-1, “Annual Report for Natural and Other Gas Transmission and Gathering Pipeline Systems,” and Form PHMSA F7100.4-1, “Underground Natural Gas Storage Facility Annual Report,” both under OMB Control No. 2137-0522.² PHMSA also proposed changes to Form PHMSA F7100.2, “Incident Report—Gas Transmission and Gathering Systems,” under OMB Control No. 2137-0635.

¹ 44 U.S.C. 3501 et seq.

² 85 FR 82028.

During the 60-day comment period, PHMSA received comments from the National Association of Pipeline Safety Representatives (NAPSR) and a joint comment from the American Gas Association, the American Petroleum Institute, the American Public Gas Association, and the Interstate Natural Gas Association of America (collectively, the Associations).

The comments received are organized by topic area, summarized, and addressed below.

A. Form PHMSA F7100.2-1 Annual Report for Natural and Other Gas Transmission and Gathering Pipeline Systems

The Associations suggested that PHMSA modify the instructions for Part G to clarify that operators are only required to report baseline and reassessment data for moderate consequence area (MCA) segments subject to 49 CFR 192.710. The Associations recommended that § 192.710 be added to the form after “MCA” on Part G, sections d-h.

PHMSA appreciates the Associations making the important distinction between MCA segments and segments required to be assessed under § 192.710. PHMSA has implemented the Associations' suggestion by replacing “MCA” with “§ 192.710” in Part G, sections d-h, to provide clarity. Further, PHMSA's proposed changes did not recognize this important distinction in Parts F and L of the form. Accordingly, PHMSA has changed “MCA” to “§ 192.710” throughout Parts F and L.

The Associations commented that PHMSA should further clarify which relief valve and emergency shutdown (ESD) events must be reported under Part G1 of the annual form. Per the Associations, the instructions should clarify that leaks are not reportable in Part G1 since they are already included in Part M. The Associations commented that relief valve “chatter,” which can generally be rectified by adjustment of the relief device, is not reportable under Part G1. They suggested reporting only “confirmed” activations/events and stated that the proposed reporting changes do not require operators to implement new procedures to identify relief valve activations. The Associations suggested that the proposed changes should simply require operators to report the number of relief valve activations and ESD events that are observed (and currently recorded as abnormal operating conditions) by operator personnel. The Associations also recommended that PHMSA should not begin requiring the reporting of any intentional release data under Part G1 until the 2022 calendar year annual reports (due in March 2023) since operators need time to modify processes to collect and report relief valve activations and ESD events in the form PHMSA proposes to collect it.

PHMSA is not implementing the changes suggested by the Associations regarding the reporting of relief valve and ESD events. PHMSA is withdrawing its proposal to move reporting of these events from the incident form (Form PHMSA F7100.2) to the annual form (Form PHMSA F7100.2-1) at this time because PHMSA's initial proposal inadvertently omitted notice to the public that the annual form would include an additional requirement that operators report the volume of natural gas released during these events. As currently noticed, PHMSA would not be able to collect the amount of gas released from relief valve and ESD events after making the change from the incident to the annual reports. The volume of gas released is important data that PHMSA currently collects via the incident reports so no changes will be made at this time to avoid any disruption in the data collected. PHMSA intends to address this issue in a future information collection amendment and will consider all of the comments provided at that time.

NAPSR requested that a section for reporting excavation damages be added to the Annual Report for Natural and Other Gas Transmission and Gathering Pipeline Systems. NAPSR commented that, for consistency, the added section should reflect the “causes” from the existing Section D of the Gas Distribution Annual Report (Form PHMSA F7100.1-1). The addition would include excavation damage, root cause, and the total number of one-call ticket requests by state. NAPSR stated this addition will provide for accurate and consistent statistical data across all pipeline types.

PHMSA did not propose the change requested by NAPSR in the 60-day notice, so it cannot be added to this information collection proposal. PHMSA intends to address this issue in a future information collection change.

B. Form PHMSA F7100.2 Incident Report—Gas Transmission and Gathering Systems

The Associations recommended additional changes to ensure a clear distinction between “intentional” and “unintentional” releases through relief valves and ESDs.

PHMSA is not implementing the changes suggested by the Associations regarding the reporting of relief valve and ESD events. As explained above, PHMSA is withdrawing its proposal to move reporting of relief valve activation and ESD events from the incident report (Form PHMSA F 7100.2) to the annual report (Form PHMSA F 7100.2-1) at this time because PHMSA's initial proposal inadvertently omitted notice that operators would be required to report the volume of natural gas released during these events on the annual report. PHMSA intends to address this issue in a future information collection change and will consider these comments at that time.

C. Form PHMSA F7100.4-1 Underground Natural Gas Storage Facility Annual Report

The Associations recommended adding an additional category of wells as Part C10c in the report. The Associations stated that by adding “number of wells plugged and abandoned during the calendar year” as an additional category in C10, there would be no duplication among counts in C10. PHMSA agrees and has added C10c.

The Associations recommended that PHMSA clarify what is meant by “wells plugged but not abandoned” and stated they believe this category is not intended to include temporary plugs.

PHMSA agrees and has modified the instructions for the report by explicitly excluding “temporary bridge plugs.”

II. Summary of Impacted Collection

Section 1320.8(d), Title 5, Code of Federal Regulations, requires PHMSA to provide interested members of the public and affected agencies an opportunity to comment on information collection and recordkeeping requests. This notice identifies an information collection request that PHMSA will submit to OMB for revision.

The following information is provided for this information collection: (1) Title of the information collection; (2) OMB control number; (3) current expiration date; (4) type of request; (5) abstract of the information collection activity; (6) description of affected public; (7) estimate of total annual reporting and recordkeeping burden; and (8) frequency of collection.

PHMSA will request a 3-year term of approval for this information collection activity. PHMSA requests comments on the following information:

1. Title: Annual and Incident Reports for Gas Pipeline Operators.

OMB Control Number: 2137-0522.

Current Expiration Date: 1/31/2023.

Type of Request: Revision.

Abstract: This mandatory information collection covers the collection of data from operators of natural gas pipelines, underground natural gas storage facilities, and liquefied natural gas (LNG) facilities for annual reports. 49 CFR 191.17 requires operators of underground natural gas storage facilities, gas transmission systems, and gas gathering systems to submit an annual report by March 15, for the preceding calendar year. The revision to this information collection includes changes to the form and instructions for PHMSA F7100.4-1, “Underground Natural Gas Storage Facility Annual Report,” and revisions to the form and instructions for PHMSA F7100.2-1, “Annual Report for Natural and Other Gas Transmission and Gathering Pipeline Systems.” The revisions to the “Underground Natural Gas Storage Facility Annual Report” Form provide clarity on submitting data and include no new data elements. The revisions to the “Annual Report for Natural and Other Gas Transmission and Gathering Pipeline Systems” Form include collecting the number of miles in high consequence areas in accordance with 49 CFR 192.903 and the type of risk model used; and to reorganize some data fields to streamline the reporting of certain data elements.

Affected Public: Operators of Natural Gas Pipelines, Underground Natural Gas Storage Facilities, and LNG Facilities.

Annual Reporting and Recordkeeping Burden:

Annual Responses: 10,547.

Annual Burden Hours: 80,101.

Frequency of collection: Annually and on occasion.

2. Title: Incident Reporting for Natural Gas Pipeline Operators and LNG Facilities.

OMB Control Number: 2137-0635.

Current Expiration Date: 1/31/2023.

Type of Request: Revision.

Abstract: Operators of natural gas pipelines and LNG facilities are required to report incidents, on occasion, to PHMSA per the requirements in 49 CFR part 191. PHMSA proposes to revise the form and instructions for the Incident Report—Natural and Other Gas Transmission and Gathering Pipeline System (PHMSA F7100.2) to include details on when operators are to answer questions E6 through E8 of the incident report.

Affected Public: Natural Gas Pipeline Operators and Operators of LNG Facilities.

Annual Reporting and Recordkeeping Burden:

Estimated number of responses: 301.

Estimated annual burden hours: 3,612.

Frequency of collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on May 11, 2021, under authority delegated in 49 CFR 1.97.
John A. Gale,
Director, Standards and Rulemaking Division.

[FR Doc. 2021-10234 Filed 5-13-21; 8:45 am]

BILLING CODE 4910-60-P